DEPARTMENT OF THE INTERIOR

Bureau of Reclamation

Quarterly Status Report of Water Service, Repayment, and Other Water-Related Contract Negotiations

AGENCY: Bureau of Reclamation, Interior.

ACTION: Notice.

SUMMARY: Notice is hereby given of contractual actions that have been proposed to the Bureau of Reclamation and are new, modified, discontinued, or completed since the last publication of this notice on August 4, 2009. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section.

FOR FURTHER INFORMATION CONTACT: Michelle Kelly, Water and Environmental Resources Office, Bureau of Reclamation, P.O. Box 25007, Denver, Colorado 80225-0007; telephone 303-445-2888.

SUPPLEMENTARY INFORMATION: Consistent with section 9(f) of the Reclamation Project Act of 1939 and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his designated public contact as they become available for review and comment.

7. In the event modifications are made in the form of a proposed contract, the appropriate regional director shall determine whether republication of the notice and/or extension of the comment period is necessary.

Factors considered in making such a determination shall include, but are not limited to (i) the significance of the modification, and (ii) the degree of public interest which has been expressed over the course of the negotiations. At a minimum, the regional director shall furnish revised contracts to all parties who requested the contract in response to the initial public notice.

Definitions of Abbreviations Frequently Used in This Document

ARRA American Recovery and Reinvestment Act of 2009

BCP Boulder Canyon Project

Reclamation Bureau of Reclamation

CAP Central Arizona Project

CVP Central Valley Project

CRSP Colorado River Storage Project

FR Federal Register

IDD Irrigation and Drainage District

ID Irrigation District

M&I Municipal and Industrial

NMISC New Mexico Interstate Stream Commission

O&M Operation and Maintenance

P-SMBP Pick-Sloan Missouri Basin Program

PPR Present Perfected Right

RRA Reclamation Reform Act of 1982

SOD Safety of Dams

SRPA Small Reclamation Projects Act of 1956

USACE U.S. Army Corps of Engineers

WD Water District

Pacific Northwest Region: Bureau of Reclamation, 1150 North Curtis Road, Suite 100, Boise, Idaho 83706-1234, telephone 208-378-5344.

New contract action:

16. Prineville Reservoir water users, Crooked River Project, Oregon: Irrigation water service contracts for up to 2,500 acre-feet of project water.

Modified contract actions:

1. Irrigation, M&I, and miscellaneous water users; Idaho, Oregon, Washington, Montana, and Wyoming: Temporary or interim irrigation and M&I water service, water storage, water right settlement, exchange, miscellaneous use, or water replacement contracts to provide up to 10,000 acre-feet of water annually for terms up to 5 years; long-term contracts for similar service for up to 1,000 acre-feet of water annually.

8. Greenberry ID, Willamette Basin Project, Oregon: Irrigation water service contract for approximately 14,000 acre-feet of project water.

Mid-Pacific Region: Bureau of Reclamation, 2800 Cottage Way, Sacramento, California 95825-1898, telephone 916-978-5250.

Modified contract action:

35. Colusa County WD, CVP, California: Execution of a long-term Warren Act contract for conveyance of up to 40,000 acre-feet of groundwater per year through the use of the Tehama-Colusa Canal.

Lower Colorado Region: Bureau of Reclamation, PO Box 61470 (Nevada Highway and Park Street), Boulder City, Nevada 89006-1470, telephone 702-293-8192.

The Lower Colorado Region has no updates to report for this quarter.

Upper Colorado Region: Bureau of Reclamation, 125 South State Street, Room 6107, Salt Lake City, Utah 84138-1102, telephone 801-524-3864.

Completed contract action:

1.(g) Charles Weaver, Aspinall Storage Unit, CRSP: Mr. Weaver has requested a 40-year water service contract for 1 acre-foot of M&I water out of Blue Mesa Reservoir, which requires Mr. Weaver to present a Plan of Augmentation to the Division 4 Water Court. Contract executed June 18, 2009.

Great Plains Region: Bureau of Reclamation, PO Box 36900, Federal Building, 316 North 26th Street, Billings, Montana 59101, telephone 406-247-7752.

New contract actions:

52. Fryingpan-Arkansas Project, Colorado: Consideration of repayment contract for the Arkansas Valley Conduit.

53. North Havre County WD, Milk River Project, Montana: Reclamation is contemplating a contract amendment for a change in the point of delivery of a portion of the district's water under contract.

54. Milk River Irrigation Project Joint Board of Control, Milk River Project, Montana: Reclamation is contemplating a new contract for transferring O&M responsibilities of the Fresno and Nelson Reservoirs.

55. State of Wyoming, Pathfinder Dam and Reservoir, North Platte Project, Wyoming: The state of Wyoming has requested a water service contract for water to be stored in Pathfinder Reservoir associated with the implementation of the Pathfinder Modification Project.

56. Loup Valleys Rural Public Power District; North Loup Division, P-SMBP; Nebraska: Proposed sale of Reclamation's share in joint-owned power line to the co-owner of the line.

57. Individual irrigators; Cambridge Unit, P-SMBP; Nebraska: Request for a Warren Act contract for use of Reclamation facilities for transportation of nonproject irrigation water under a highway and railroad for irrigation purposes.

Modified contract actions:

3. Ruedi Reservoir, Fryingpan-Arkansas Project, Colorado: Water sales from the regulatory capacity of Ruedi Reservoir. Water service and repayment contracts for up to 17,000 acre-feet annually.

16. ExxonMobil Corporation, Ruedi Reservoir, Fryingpan-Arkansas Project, Colorado: Consideration of ExxonMobil Corporation's request to amend its Ruedi Round I contract to include additional locations and uses of the water.

Completed contract actions:

5. Dickinson-Heart River Mutual Aid Corporation; Dickinson Unit, P-SMBP; North Dakota: Negotiate renewal of water service contract for irrigation of lands below Dickinson Dam in western North Dakota. Contract executed June 24, 2009.

21. Glendo Unit, P-SMBP, Wyoming: Contract renewal for long-term water service contracts with Burbank Ditch, New Grattan Ditch Company, Torrington ID, Lucerne Canal and Power Company, and Wright and Murphy Ditch Company. Contracts executed July 22, 2009.

22. Glendo Unit, P-SMBP, Nebraska: Contract renewal for long-term water service contracts with Bridgeport, Enterprise, and Mitchell IDs. Contracts executed July 22, 2009.

28. Turtle Lake ID, Garrison Diversion Unit, North Dakota: Turtle Lake ID, water users, and individual irrigators have requested water service contracts, which may be short- or long-term under the Dakota Water Resources Act of 2000. Contracts executed July 2, 2009.

31. LU Sheet Company, Boysen Unit, P-SMBP, Wyoming: Contract renewal of long-term water service contract. Contract executed August 10, 2009.

32. Busch Farms, Inc., Boysen Unit, P-SMBP, Wyoming: Contract renewal of long-term water service contract. Contract executed August 10, 2009.

33. Gorst Ranch, Boysen Unit, P-SMBP, Wyoming: Contract renewal of long-term water service contract. Contract executed August 10, 2009.

36. Central Nebraska Public Power and ID, Glendo Unit, P-SMBP, Nebraska: Request to amend current repayment contract. Contract executed August 10, 2009.

40. Pryor Creek Land and Development Company, Huntley Project, Montana: Request for a long-term water service contract for M&I purposes for up to 200 acre-feet of water per year. Contract executed August 16, 2009.

41. Grandview Cemetery Association of Saco, Milk River Project, Montana: Contract renewal for a long-term water service contract for up to 14 acre-feet of water per year. Contract executed June 24, 2009.

Dated: October 13, 2009.
Roseann Gonzales,
Director, Policy and Administration, Denver Office.

[FR Doc. E9-26797 Filed 11-5-09; 8:45 am]

BILLING CODE 4310-MN-P